DEPARTMENT OF DEFENSE

Office of the Secretary

Veterans' Advisory Board on Dose Reconstruction; Meeting

AGENCY: Defense Threat Reduction Agency, DoD.

ACTION: Advisory Board Meeting Notice.

SUMMARY: Under the provisions of the Federal Advisory Committee Act of 1972 (5 U.S.C., Appendix, as amended) and the Sunshine in the Government Act of 1976 (5 U.S.C. 552b, as amended) the Defense Threat Reduction Agency (DTRA) and the Department of Veterans Affairs (VA) announce the following advisory board meeting of the Veterans' Advisory Board on Dose Reconstruction (VBDR).

DATES: Wednesday, June 10, 2009, 8:30 a.m. to 12 p.m. and from 1:15 p.m. to 9 p.m.. The public is invited to attend. Public comment sessions are scheduled from 10:15 a.m. to 10:45 a.m. and from 6:30 p.m. to 7 p.m.

ADDRESSES: Hyatt Regency Bethesda Hotel, Old Georgetown Room, One Bethesda Metro Center (7400 Wisconsin Avenue), Bethesda, MD 20814.

FOR FURTHER INFORMATION CONTACT: The Veterans' Advisory Board on Dose Reconstruction Toll Free at 1-866-657-VBDR (8237). Additional information may be found at http://vbdr.org.

SUPPLEMENTARY INFORMATION:

Purpose of Meeting: To obtain, review and evaluate information related to the Board mission to provide guidance and oversight of the dose reconstruction and claims compensation programs for veterans of U.S.-sponsored atmospheric nuclear weapons tests from 1945-1962; veterans of the 1945-1946 occupation of Hiroshima and Nagasaki, Japan; and veterans who were prisoners of war in those regions at the conclusion of World War II. In addition, the advisory board will assist the VA and DTRA in communicating with the veterans.

Meeting Agenda: On Wednesday, the meeting will open with an introduction of the Board. The following briefings will be presented: “Veterans Health Administration Procedures and the Ionizing Radiation Registry” by Victoria Cassano, M.D.; “Veterans Administration Regional Office, Jackson MS Presentation” by Ms. Carol Sullivan; “Update on the NTPR Dose Reconstruction Program” by Dr. Paul Blake; “Veterans Communication Effort” by Mr. Ken Groves, and “Update on the VA Radiation Claims Compensation Program for Veterans and VETNET” by Mr. Thomas Pamperin. The morning session includes one half-hour open public comment session. In the afternoon, the four subcommittees established during the inaugural VBDR session will report on their activities since September 2008. The subcommittees are the “Subcommittee on DTRA Dose Reconstruction Procedures,” the “Subcommittee on VA Claims Adjudication Procedures,” the “Subcommittee on Quality Management and VA Process Integration with DTRA Nuclear Test Personnel Review Program,” and the “Subcommittee on Communication and Outreach.” The remainder of the meeting will be devoted to a discussion of the future of the VBDR with the exception of a one half-hour public comment period in the evening after dinner.

Meeting Accessibility: Pursuant to 5 U.S.C. 552b, as amended, and 41 CFR 102-3.140 through 102-3.165, and the availability of space, this meeting is open to the public. Seating is limited by the size of the meeting room. All persons must sign in legibly at the registration desk.

Written Statements: Pursuant to 41 CFR 102-3.105(j) and 102-3.140(c), interested persons may submit a written statement for consideration by the Veterans' Advisory Board on Dose Reconstruction. Written statements should be no longer than two type written pages and must address: the issue, discussion, and recommended course of action. Supporting documentation may also be included as needed to establish the appropriate historical context and to provide any necessary background information. Individuals submitting a written statement must submit their statement to the Board at 7910 Woodmont Ave., Suite 400, Bethesda, MD 20814-3095, at any point; however, if a written statement is not received at least 10 calendar days prior to the meeting, which is the subject of this notice, then it may not be provided to or considered by the Veterans' Advisory Board on Dose Reconstruction until its next open meeting.

The Chairperson will review all timely submissions with the Designated Federal Officer, and ensure they are provided to members of the Veterans' Advisory Board on Dose Reconstruction before the meeting that is the subject of this notice. After reviewing the written comments, the Chairperson and the Designated Federal Officer may choose to invite the submitter of the comments to orally present their issue during an open portion of this meeting or at a future meeting. However, due to the need to review the future of the Board and the options regarding these issues, oral presentations will not be presented at this meeting. If responses are needed, it will be done by correspondence to the participant.

The Chairperson, in consulting with the Designated Federal Officer, may, if desired, allot a specific amount of time for members of the public to present their issues for review and discussion by the Veterans' Advisory Board on Dose Reconstruction.

Public Comments: The June 10, 2009 meeting is open to the public. Approximately two one-half hour sessions will be reserved for public comments on issues related to the task of the Veterans' Advisory Board on Dose Reconstruction. Speaking time will be assigned on a first-come, first-served basis. The amount of time per speaker will be determined by the number of requests received, but is nominally five minutes each. All persons who wish to speak at the meeting must sign in legibly at the registration desk. Questions from the public will not be considered during this period. Speakers who wish to expand on their oral statements are invited to submit a written statement to the Veterans' Advisory Board on Dose Reconstruction at 7910 Woodmont Ave., Suite 400, Bethesda, MD 20814-3095.

Morgan E. Frazier,
Alternate OSD Federal Register Liaison Officer, Department of Defense.

[FR Doc. E9-12042 Filed 5-22-09; 8:45 am]

BILLING CODE 5001-06-P